DEPARTMENT OF HOMELAND SECURITY

Coast Guard

33 CFR Part 117

[Docket No. USCG-2011-0033]

Drawbridge Operation Regulation; Pocomoke River, Pocomoke City, MD

AGENCY: Coast Guard, DHS.

ACTION: Notice of temporary deviation from regulations.

SUMMARY: The Commander, Fifth Coast Guard District, has issued a temporary deviation from the regulations governing the operation of the Route 675 Bridge across Pocomoke River, mile 15.6, at Pocomoke City, MD. The deviation restricts the operation of the draw span to facilitate mechanical repairs.

DATES: This deviation is effective from 7 a.m. on February 14, 2011 to 11:59 p.m. on February 26, 2011.

ADDRESSES: Documents mentioned in this preamble as being available in the docket are part of docket USCG-2011-0033 and are available online by going to http://www.regulations.gov, inserting USCG-2011-0033 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Waverly W. Gregory, Jr., Bridge Administrator, Fifth District; Coast Guard; telephone 757-398-6222, e-mail Waverly.W.Gregory@uscg.mil. If you have questions on viewing the docket, call Renee V. Wright, Program Manager, Docket Operations, telephone 202-366-9826.

SUPPLEMENTARY INFORMATION: The Maryland State Highway Administration (SHA), who owns and operates this double leaf bascule drawbridge, has requested a temporary deviation from the current operating schedule to facilitate the repairs by replacing the existing solenoid brakes on the main motors with thruster brakes. Under the regular operating schedule required by 33 CFR 117.569(b), the bridge opens on signal, except between November 1 and March 31 the draw must open only if at least five hours advance notice is given.

The Route 675 Bridge across Pocomoke River, mile 15.6 at Pocomoke City MD, has a vertical clearance in the closed position of three feet above mean high water and five feet above mean low water. Vessels that can transit under the bridge without an opening may do so at any time. Under this temporary deviation, the SHA will maintain the bridge in the closed position to vessels beginning at 7 a.m. on February 14, 2011 until and including 11:59 p.m. on February 26, 2011.

Historically, the bridge has had one opening or less during the month of February in the last three years.

The Coast Guard will inform users of the waterway through our Local and Broadcast Notices to Mariners of the closure periods for the bridge so that vessels can arrange their transits to minimize any impact caused by the temporary deviation. There are no alternate routes for vessels transiting this section of the Pocomoke River; however, the drawbridge will be able to open in the event of an emergency.

In accordance with 33 CFR 117.35(e), the drawbridge must return to its regular operating schedule immediately at the end of the designated time period. This deviation from the operating regulations is authorized under 33 CFR 117.35.

Dated: January 21, 2011.
Waverly W. Gregory, Jr.,
Chief, Bridge Administration Branch, Fifth Coast Guard District.

[FR Doc. 2011-2224 Filed 2-1-11; 8:45 am]

BILLING CODE 9110-04-P